DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 13320.5. The following are those information collections recently submitted to OMB.

1. Protection of Human Subjects: Assurance Identification/Certification/Declaration—NEW—This form, which will replace Optional Form 310, is a sample format which may be used by some entities to comply with the requirements of Section _.103(f) of the Common Rule, which requires that institutions submitting applications for Federal support of research involving human subjects submit certification of appropriate Institutional Review Board review and approval. The burden for use of this form, estimated to be 5 minutes, is included under total burden for the Common Rule, approved under OMB Clearance Number 0990-0260.

OMB Desk Officer: Allison Herron Eydt.

Copies of the information collection packages listed above can be obtained by calling the OS Report Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington DC, 20201. Written comments should be received within 30 days of this notice.

Dated: May 10, 2002.
Kerry Weems,
Acting Deputy Assistant Secretary, Budget.

[FR Doc. 02-12738 Filed 5-21-02; 8:45 am]

BILLING CODE 4150-28-M